SMALL BUSINESS ADMINISTRATION

Declaration of Economic Injury Disaster #9G20

State of Washington

King, Pierce, Snohomish, Thurston, and Whatcom Counties and the contigous counties of Chelan, Grays Harbor, Island, Kitsap, Kittitas, Lewis, Mason, Okanogan, Skagit, and Yakima in the State of Washington constitute an economic injury disaster area due to the effects of the warm water current known as El Nino beginning in 1997. Eligible small businesses and small agricultural cooperatives without credit available elsewhere may file applications for economic injury assistance for this disaster until the close of business on September 22, 2000 at the address listed below or other locally announced locations: U.S. Small Business Administration, Disaster Area 4 Office, P.O. Box 13795, Sacramento, CA 95853-4795.

The interest rate for eligible small businesses and small agricultural cooperatives is 4 percent.

(Catalog of Federal Domestic Assistance Program No. 59002)

Dated: Dec. 22, 1999.
Aida Alvarez,
Administrator.

[FR Doc. 00-1805 Filed 1-25-00; 8:45 am]

BILLING CODE 8025-01-P